DEPARTMENT OF THE INTERIOR

Bureau of Ocean Energy Management

[OMB Control Number 1010-0176]

Information Collection: Renewable Energy and Alternate Uses of Existing Facilities on the Outer Continental Shelf; Proposed Collection for OMB Review; Comment Request

ACTION: 60-day notice.

SUMMARY: To comply with the Paperwork Reduction Act of 1995 (PRA), the Bureau of Ocean Energy Management (BOEM) is inviting comments on a collection of information that we will submit to the Office of Management and Budget (OMB) for review and approval. The information collection request (ICR) concerns the paperwork requirements in the regulations under “Renewable Energy and Alternate Uses of Existing Facilities on the Outer Continental Shelf.”

DATES: Submit written comments by February 16, 2016.

ADDRESSES: Please send your comments on this ICR to the BOEM Information Collection Clearance Officer, Kye Mason, Bureau of Ocean Energy Management, 45600 Woodland Road, Sterling, VA 20166 (mail); or kye.mason@boem.gov (email); or (703) 787-1209 (fax). Please reference ICR 1010-0176 in your comment and include your name and return address.

FOR FURTHER INFORMATION CONTACT: Kye Mason, Office of Policy, Regulations, and Analysis at (703) 787-1025 to request additional information about this ICR or copies of the referenced forms.

SUPPLEMENTARY INFORMATION:

OMB Control Number: 1010-0176.

Title: 30 CFR 585, Renewable Energy and Alternate Uses of Existing Facilities on the Outer Continental Shelf.

Forms: BOEM-0002, BOEM-0003, BOEM-0004, BOEM-0005, BOEM-0006.

Abstract: The Outer Continental Shelf (OCS) Lands Act, as amended (43 U.S.C. 1331 et seq. and 43 U.S.C. 1801 et seq.), authorizes the Secretary of the Interior to issue leases, easements, or rights-of-way on the OCS for activities that produce or support production, transportation, or transmission of energy from sources other than oil and gas (renewable energy). Specifically, subsection 8(p) of the OCS Lands Act, as amended (43 U.S.C. 1337(p)), directs the Secretary of the Interior to issue any necessary regulations to carry out the OCS renewable energy program. The Secretary delegated this authority to the Bureau of Ocean Energy Management (BOEM). The BOEM has issued regulations for OCS renewable energy activities at 30 CFR part 585; this notice concerns the reporting and recordkeeping elements required by these regulations.

Respondents operate commercial and noncommercial technology projects that include installation, construction, operation and maintenance, and decommissioning of offshore facilities, as well as possible onshore support facilities. The BOEM must ensure that these activities and operations on the OCS are performed in a safe and pollution-free manner, do not interfere with the rights of other users on the OCS, and balance the protection and development of OCS resources. Therefore, BOEM needs information concerning the proposed activities, facilities, safety equipment, inspections and tests, and natural and manmade hazards near the site, as well as assurance of fiscal responsibility.

The BOEM uses forms to collect some information to ensure proper and efficient administration of OCS renewable energy leases and grants and to document the financial responsibility of lessees and grantees. Forms BOEM-0002, BOEM-0003, BOEM-0004, and BOEM-0006 are used by renewable energy entities on the OCS to assign a lease interest, designate an operator, and to assign or relinquish a lease or grant. Form BOEM-0005 was designed to guarantee the performance of sureties with respect to bonds issued on behalf of OCS renewable energy lessees, grantees, and operators. The BOEM maintains the submitted forms as official lease and grant records pertaining to operating responsibilities, ownership, and financial responsibility.

We will protect information considered proprietary under the Freedom of Information Act (5 U.S.C. 552) and its implementing regulations (43 CFR part 2) and under regulations at 30 CFR 585.113, addressing disclosure of data and information to be made available to the public and others. No items of a sensitive nature are collected. Responses are mandatory or required to obtain a benefit.

Frequency: On occasion or annually.

Description of Respondents: Companies interested in renewable energy-related uses on the OCS and holders of leases and grants under 30 CFR part 585.

Estimated Reporting and Recordkeeping Hour Burden: We estimate the burden for this information collection to be 25,688 hours. The following table details the individual components and estimated hour burdens. In calculating the burdens, we assumed that respondents perform certain requirements in the normal course of their activities. We consider these to be usual and customary and took that into account in estimating the burden.

Burden Table
Section(s) in 30 CFR 585 | Reporting and recordkeeping requirement ¹ | Hour burden | Non-hour cost burdens: Average number of annual responses | Non-hour cost burdens: Annual burden hours
Subpart A—General Provisions
102; 105; 110 | These sections contain general references to submitting comments, requests, applications, plans, notices, reports, and/or supplemental information for BOEM approval—burdens covered under specific requirements |  |  | 0
102(e) | State and local governments enter into task force or joint planning or coordination agreement with BOEM | 1 | 2 agreements | 2
103; 904; | Request general departures not specifically covered elsewhere in part 585 | 2 | 6 requests | 12
105(c) | Make oral requests or notifications and submit written follow up within 3 business days not specifically covered elsewhere in part 585 | 1 | 5 requests | 5
106; 107; 213(e); 230(f); 302(a); 408(b)(7); 409(c); 1005(d); 1007(c); 1013(b)(7) | Submit evidence of qualifications to hold a lease or grant; submit required supporting information (electronically if required) | 2 | 20 submissions | 40
106(b)(1) | Request exception from exclusion or disqualification from participating in transactions covered by Federal non-procurement debarment and suspension system | 1 | 1 exception | 1
106(b)(2), 118(c), 225(b); 436; 437; 527(c); 705(c)(2); 1016 | Request reconsideration and/or hearing | Requirement not considered IC under 5 CFR 1320.3(h)(9). |  | 0
108; 530(b) | Notify BOEM within 3 business days after learning of any action filed alleging respondent is insolvent or bankrupt | 1 | 1 notice | 1
109 | Notify BOEM in writing of merger, name change, or change of business form no later than 120 days after earliest of either the effective date or filing date | Requirement not considered IC under 5 CFR 1320.3(h)(1). |  | 0
111 | Within 30 days of receiving bill, submit processing fee payments for BOEM document or study preparation to process applications and other requests | .5 | 4 submissions | 2
|  | 4 payments × $4,000 = $16,000
111(b)(2), (3) | Submit comments on proposed processing fee or request approval to perform or directly pay contractor for all or part of any document, study, or other activity, to reduce BOEM processing costs | 2 | 4 requests | 8
111(b)(3) | Perform, conduct, develop, etc., all or part of any document, study, or other activity; and provide results to BOEM to reduce BOEM processing fee | 19,000 | 1 submission | 19,000
111(b)(3) | Pay contractor for all or part of any document, study, or other activity, and provide results to BOEM to reduce BOEM processing costs | 3 contractor payments × $950,000 = $2,850,000
111(b)(7); 118(a); 436(c) | Appeal BOEM estimated processing costs, decisions, or orders pursuant to 30 CFR 590 | Exempt under 5 CFR 1320.4(a)(2), (c). |  | 0
113(b) | Respond to the Freedom of Information Act release schedule | 4 | 1 agreement | 4
115(c) | Request approval to use later edition of a document incorporated by reference or alternative compliance | 1 | 1 request | 1
116 | The Director may occasionally request information to administer and carry out the offshore renewable energy program via Federal Register Notices | 4 | 25 submissions | 100
118(c); 225(b) | Within 15 days of bid rejection, request reconsideration of bid decision or rejection | Requirement not considered IC under 5 CFR 1320.3(h)(9). |  | 0
Subtotal |  |  | 71 responses | 19,176
|  |  | $2,866,000 non-hour costs
Subpart B—Issuance of OCS Renewable Energy Leases
200; 224; 231; 235; 236; 238 | These sections contain references to information submissions, approvals, requests, applications, plans, payments, etc., the burdens for which are covered elsewhere in part 585 |  |  | 0
210; 211(a-c); 212 thru 216 | Submit nominations and general comments in response to Federal Register notices on Request for Interest in OCS Leasing, Call for Information and Nominations (Call), Area Identification, and Notices of Sale. Includes industry, State & local governments | Not considered IC as defined in 5 CFR 1320.3(h)(4) |  | 0
210; 211(a-c); 212 thru 216 | Submit comments and required information in response to Federal Register notices on Request for Interest in OCS Leasing, Call for Information and Nominations (Call), Area Identification, and Notices of Sale. Includes industry, State & local governments | 4 | 30 comments | 120
211(d); 216; 220 thru 223; 231(c)(2) | Submit bid, payments, and required information in response to Federal Register Final Sale Notice | 5 | 12 bids | 60
224 | Within 10 business days, execute 3 copies of lease form and return to BOEM with required payments, including evidence that agent is authorized to act for bidder; if applicable, submit information to support delay in execution—competitive leases | 1 | 2 lease executions | 2
230; 231(a) | Submit unsolicited request and acquisition fee for a commercial or limited lease | 5 | 2 requests | 10
231(b) | Submit comments in response to Federal Register notice re interest of unsolicited request for a lease | 4 | 4 comments | 16
231(g) | Within 10 business days of receiving lease documents, execute lease; file financial assurance and supporting documentation—noncompetitive leases | 2 | 2 leases | 4
231(g) | Within 45 days of receiving lease copies, submit rent and rent information | Burdens covered by information collections approved for ONRR 30 CFR Chapter XII. |  | 0
235(b); 236(b) | Request additional time to extend preliminary or site assessment term of commercial or limited lease, including revised schedule for SAP, COP, or GAP submission | 1 | 3 requests | 3
237(b) | Request lease be dated and effective 1st day of month in which signed | 1 | 1 request | 1
238 | Submit other renewable energy research activities | Burden covered under SAPs & GAPs § 585.600(a), (c). |  | 0
Subtotal |  |  | 56 responses | 216
Subpart C—ROW Grants and RUE Grants for Renewable Energy Activities
306; 309; 315; 316 | These sections contain references to information submissions, approvals, requests, applications, plans, payments, etc., the burdens for which are covered elsewhere in part 585 |  |  | 0
302(a); 305; 306 | Submit copies of a request for a new or modified ROW or RUE and required information, including qualifications to hold a grant, in format specified | 5 | 1 request | 5
307; 308(a)(1) | Submit information in response to Federal Register notice of proposed ROW or RUE grant area or comments on notice of grant auction | 4 | 2 comments | 8
308(a)(2), (b); 315; 316 | Submit bid and payments in response to Federal Register notice of auction for a ROW or RUE grant | 5 | 1 bid | 5
309 | Submit decision to accept or reject terms and conditions of noncompetitive ROW or RUE grant | 2 | 1 submission | 2
Subtotal |  |  | 5 responses | 20
Subpart D—Lease and Grant Administration
400; 401; 402; 405; 409; 416, 433 | These sections contain references to information submissions, approvals, requests, applications, plans, payments, etc., the burdens for which are covered elsewhere in part 585 |  |  | 0
401(b) | Take measures directed by BOEM in cessation order and submit reports in order to resume activities | 100 | 1 report | 100
405(d) | Submit written notice of change of address | Requirement not considered IC under 5 CFR 1320.3(h)(1) |  | 0
405(e); Form BOEM-0006 | If designated operator (DO) changes, notify BOEM and identify new DO for BOEM approval | 1 | 1 notice | 1
408 thru 411; Forms BOEM-0002 and BOEM-0003 | Within 90 days after last party executes a transfer agreement, submit copies of a lease or grant assignment application, including originals of each instrument creating or transferring ownership of record title, eligibility and other qualifications; and evidence that agent is authorized to execute assignment, in format specified | 1 (30 minutes per form × 2 forms = 1 hour) | 2 requests/submissions | 2
415(a)(1); 416; 420(a), (b); 428(b) | Submit request for suspension and required information/payment no later than 90 days prior to lease or grant expiration | 10 | 1 request | 10
417(b) | Conduct, and if required pay for, site-specific study to evaluate cause of harm or damage; and submit copies of study and results, in format specified | 100 | 1 study/submission | 100
|  | 1 study × $950,000 = $950,000
425 thru 428; 652(a); 235(a), (b) | Request lease or grant renewal no later than 180 days before termination date of your limited lease or grant, or no later than 2 years before termination date of operations term of commercial lease. Submit required information | 6 | 1 requests | 6
435; 658(c)(2); Form BOEM-0004 | Submit copies of application to relinquish lease or grant, in format specified | 1 | 1 submission | 1
436; 437 | Provide information for reconsideration of BOEM decision to contract or cancel lease or grant area | Requirement not considered IC under 5 CFR 1320.3(h)(9). |  | 0
Subtotal |  |  | 8 responses | 220
|  |  | $950,000 non-hour costs
Subpart E—Payments and Financial Assurance Requirements
An * indicates the primary cites for providing bonds or other financial assurance, and the burdens include any previous or subsequent references throughout part 585 to furnish, replace, or provide additional bonds, securities, or financial assurance (including riders, cancellations, replacements). This subpart contains references to other information submissions, approvals, requests, applications, plans, etc., the burdens for which are covered elsewhere in part 585. In the future BOEM may require electronic filings of certain submissions. | 0
500 thru 509; 1011 | Submit payor information, payments and payment information, and maintain auditable records according to ONRR regulations or guidance | Burdens covered by information collections approved for ONRR 30 CFR Chapter XII. |  | 0
506(c)(4) | Submit documentation of the gross annual generation of electricity produced by the generating facility on the lease—use same form as authorized by the EIA. (Burden covered under DOE/EIA OMB Control Number 1905-0129 to gather info and fill out form. BOEM's burden is for submitting a copy) | 15 min | 2 submissions | .5
510; 506(c)(3) | Submit application and required information for waiver or reduction of rental or other payment | 1 | 1 submission | 1
* 515; 516; 525(a) thru (f) | Execute and provide $100,000 minimum lease-specific bond or other approved security; or increase bond level if required | 1 | 2 bonds | 2
* 516(a)(2), (3), (b), (c); 517; 525(a) thru (f) | Execute and provide commercial lease supplemental bonds in amounts determined by BOEM | 1 | 2 bonds | 2
516(a)(4); 521(c) | Execute and provide decommissioning bond or other financial assurance; schedule for providing the appropriate amount | 1 | 1 bond | 1
517(c)(1) | Submit comments on proposed adjustment to bond amounts | 1 | 1 submission | 1
517(c)(2) | Request bond reduction and submit evidence to justify | 5 | 1 request | 5
* 520; 521; 525(a) thru (f); Form BOEM-0005 | Execute and provide $300,000 minimum limited lease or grant-specific bond or increase financial assurance and required information | 1 | 1 bond | 1
525(g) | Surety notice to lessee or ROW/RUE grant holder and BOEM within 5 business days after initiating surety insolvency or bankruptcy proceeding, or Treasury decertifies surety | 1 | 1 surety notice | 1
* 526 Form BOEM-0005 | In lieu of surety bond, pledge other types of securities, including authority for BOEM to sell and use proceeds and submit required information (1 hour for form) | 2 | 1 pledge | 2
526(c) | Provide annual certified statements describing the nature and market value, including brokerage firm statements/reports | 1 | 1 statement | 1
* 527; 531 | Demonstrate financial worth/ability to carry out present and future financial obligations, annual updates, and related or subsequent actions/records/reports, etc | 10 | 1 demonstration | 10
528 | Provide third-party indemnity; financial information/statements; additional bond info; executed guarantor agreement and supporting information/documentation/agreements | 10 | 1 submission | 10
528(c)(6); 532(b) | Guarantor/Surety requests BOEM terminate period of liability and notifies lessee or ROW/RUE grant holder, etc | 1 | 1 request | 1
* 529 | In lieu of surety bond, request authorization to establish decommissioning account, including written authorizations and approvals associated with account | 2 | 1 request | 2
530 | Notify BOEM promptly of lapse in bond or other security/action filed alleging lessee, surety or guarantor et al is insolvent or bankrupt | 1 | 1 notice | 1
533(a)(2) (ii), (iii) | Provide agreement from surety issuing new bond to assume all or portion of outstanding liabilities | 3 | 1 submission | 3
536(b) | Within 10 business days following BOEM notice, lessee, grant holder, or surety agrees to and demonstrates to BOEM that lease will be brought into compliance | 16 | 1 demonstration every 2 years | 8
Subtotal |  |  | 21 responses | 52.5
Subpart F—Plans and Information Requirements
Two ** indicate the primary cites for Site Assessment Plans (SAPs), Construction and Operations Plans (COPs), and General Activities Plans (GAPs); and the burdens include any previous or subsequent references throughout part 585 to submission and approval. This subpart contains references to other information submissions, approvals, requests, applications, plans, etc., the burdens for which are covered elsewhere in part 585 | 0
** 600(a); 601(a), (b); 605 thru 614; 238; 810 | Within time specified after issuance of a competitive lease or grant, or within time specified after determination of no competitive interest, submit copies of SAP, including required information to assist BOEM to comply with NEPA/CZMA such as hazard info, air quality, SEMS, and all required information, certifications, requests, etc., in format specified | 240 | 2 SAPs | 480
** 600(b); 601(c), (d)(1); 606(b); 618; 620 thru 629; 632; 633; 810 | If requesting an operations term for commercial lease, within time specified before the end of site assessment term, submit copies of COP, or FERC license application, including required information to assist BOEM to comply with NEPA/CZMA such as hazard info, air quality, SEMS, and all required information, surveys and/or their results, reports, certifications, project easements, supporting data and information, requests, etc., in format specified | 1,000 | 2 COPs | 2,000
** 600(c); 601(a), (b); 640 thru 648; 651; 238; 810 | Within time specified after issuance of a competitive lease or grant, or within time specified after determination of no competitive interest, submit copies of GAP, including required information to assist BOEM to comply with NEPA/CZMA such as hazard info, air quality, SEMS, and all required information, surveys and reports, certifications, project easements, requests, etc., in format specified | 240 | 2 GAP | 480
** 601(d) (2); 622; 628(f); 632; 634; 658(c)(3); 907 | Submit revised or modified COPs, including project easements, and all required additional information | 50 | 1 revised or modified COP | 50
602 ² | Until BOEM releases financial assurance, respondents must maintain, and provide to BOEM if requested, all data and information related to compliance with required terms and conditions of SAP, COP, or GAP | 2 | 9 records/submissions | 18
** 613(a), (d), (e); 617 | Submit revised or modified SAPs and required additional information | 50 | 1 revised or modified SAP | 50
612; 647 | Submit copy of SAP or GAP consistency certification and supporting documentation, including noncompetitive leases | 1 | 2 leases | 2
615(a) | Notify BOEM in writing within 30 days of completion of construction and installation activities under SAP | 1 | 2 notices | 2
615(b) | Submit annual report summarizing findings from site assessment activities | 30 | 4 reports | 120
615(c) | Submit annual, or at other time periods as BOEM determines, SAP compliance certification, effectiveness statement, recommendations, reports, supporting documentation, etc | 40 | 4 certifications | 160
617(a) | Notify BOEM in writing before conducting any activities not approved, or provided for, in SAP; provide additional information if requested | 10 | 1 notice | 10
627(c) | Submit oil spill response plan as required by BSEE 30 CFR part 254 | Burden covered under BSEE 1014-0007. |  | 0
631 | Request deviation from approved COP schedule | 2 | 1 request | 2
633(b) | Submit annual, or at other time periods as BOEM determines, COP compliance certification, effectiveness statement, recommendations, reports, supporting documentation, etc | 50 | 9 certifications | 450
634(a) | Notify BOEM in writing before conducting any activities not approved or provided for in COP, and provide additional information if requested | 10 | 1 notice | 10
635 | Notify BOEM any time commercial operations cease without an approved suspension | 1 | 1 notice | 1
636(a) | Notify BOEM in writing no later than 30 days after commencing activities associated with placement of facilities on lease area | 1 | 2 notices | 2
636(b) | Notify BOEM in writing no later than 30 days after completion of construction and installation activities | 1 | 2 notices | 2
636(c) | Notify BOEM in writing at least 7 days before commencing commercial operations | 1 | 1 notices | 1
** 642(b); 648; 655; 658(c)(3) | Submit revised or modified GAPs and required additional information | 50 | 1 revised or modified GAP | 50
651 | Before beginning construction of OCS facility described in GAP, complete survey activities identified in GAP and submit initial findings. [This only includes the time involved in submitting the findings; it does not include the survey time as these surveys would be conducted as good business practice.] | 30 | 2 surveys/reports | 60
653(a) | Notify BOEM in writing within 30 days of completing installation activities under the GAP | 1 | 2 notices | 2
653(b) | Submit annual report summarizing findings from activities conducted under approved GAP | 30 | 4 reports | 120
653(c) | Submit annual, or at other time periods as BOEM determines, GAP compliance certification, recommendations, reports, etc | 40 | 4 certifications | 160
655(a) | Notify BOEM in writing before conducting any activities not approved or provided for in GAP, and provide additional information if requested | 10 | 1 notice | 10
656 | Notify BOEM any time approved GAP activities cease without an approved suspension | 1 | 1 notice | 1
658(c)(1) | If after construction, cable or pipeline deviate from approved COP or GAP, notify affected lease operators and ROW/RUE grant holders of deviation and provide BOEM evidence of such notices | 3 | 1 notice/evidence | 3
659 | Determine appropriate air quality modeling protocol, conduct air quality modeling, and submit 3 copies of air quality modeling report and 3 sets of digital files as supporting information to plans | 70 | 5 reports/information | 350
Subtotal |  |  | 68 responses | 4,596
Subpart G—Facility Design, Fabrication, and Installation
Three *** indicate the primary cites for the reports discussed in this subpart, and the burdens include any previous or subsequent references throughout part 585 to submitting and obtaining approval. This subpart contains references to other information submissions, approvals, requests, applications, plans, etc., the burdens for which are covered elsewhere in part 585. | 0
*** 700(a)(1), (b), (c); 701 | Submit Facility Design Report, including copies of the cover letter, certification statement, and all required information (1-3 paper or electronic copies as specified) | 200 | 1 report | 200
*** 700(a)(2); (b), (c); 702 | Submit copies of a Fabrication and Installation Report, certification statement and all required information, in format specified | 160 | 1 report | 160
705(a)(3); 707; 712 | Certified Verification Agent (CVA) conducts independent assessment of the facility design and submits copies of all reports/certifications to lessee or grant holder and BOEM—interim reports if required, in format specified | 100 | 1 interim report | 100
|  | 100 | 1 final report | 100
705(a)(3); 708; 709; 710; 712 | CVA conducts independent assessments/inspections on the fabrication and installation activities, informs lessee or grant holder if procedures are changed or design specifications are modified; and submits copies of all reports/certifications to lessee or grant holder and BOEM—interim reports if required, in format specified | 100 | 1 interim report | 100
|  | 100 | 1 final report | 100
*** 703; 705(a)(3); 712; 815 | CVA/project engineer monitors major project modifications and repairs and submits copies of all reports/certifications to lessee or grant holder and BOEM—interim reports if required, in format specified | 20 | 1 interim report | 20
|  | 15 | 1 final report | 15
705(c) | Request waiver of CVA requirement in writing; lessee must demonstrate standard design and best practices | 40 | 1 waiver | 40
706 | Submit for approval with SAP, COP, or GAP, initial nominations for a CVA or new replacement CVA nomination, and required information | 16 | 2 nominations | 32
708(b)(2) | Lessee or grant holder notify BOEM if modifications identified by CVA/project engineer are accepted | 1 | 1 notice | 1
709(a) (14); 710(a)(2), (e) ² | Make fabrication quality control, installation towing, and other records available to CVA/project engineer for review (retention required by § 585.714) | 1 | 3 records retention | 3
713 | Notify BOEM within 10 business days after commencing commercial operations | 1 | 1 notice | 1
714 ² | Until BOEM releases financial assurance, compile, retain, and make available to BOEM and/or CVA the as-built drawings, design assumptions/analyses, summary of fabrication and installation examination records, inspection results, and records of repairs not covered in inspection report. Record original and relevant material test results of all primary structural materials; retain records during all stages of construction | 100 | 1 lessee | 100
Subtotal |  |  | 17 responses | 972
Subpart H—Environmental and Safety Management, Inspections, and Facility Assessments for Activities Conducted Under SAPs, COPs, and GAPs
801(c), (d) | Notify BOEM if endangered or threatened species, or their designated critical habitat, may be in the vicinity of the lease or grant or may be affected by lease or grant activities | 1 | 2 notices | 2
801(e), (f) | Submit information to ensure proposed activities will be conducted in compliance with the Endangered Species Act (ESA) and Marine Mammal Protection Act (MMPA); including agreements and mitigating measures designed to avoid or minimize adverse effects and incidental take of endangered species or critical habitat | 6 | 2 submissions | 12
802; 902(e) | Notify BOEM of archaeological resource within 72 hours of discovery | 3 | 1 notice | 3
802(b), (c) | If requested, conduct further archaeological investigations and submit report/information | 10 | 1 report | 10
802(d) | If applicable, submit payment for BOEM costs in carrying out National Historic Preservation Act responsibilities | .5 | 1 payment | .5
803 | If required, conduct additional surveys to define boundaries and avoidance distances and submit report | 15 | 2 survey/report | 30
*** 810; 614; 627; 632(b); 651 | Submit safety management system description with the SAP, COP, or GAP | 35 | 2 submissions | 70
813(b)(1) | Report within 24 hours when any required equipment taken out of service for more than 12 hours; provide written confirmation if reported orally | .5 | 2 reports | 1
|  | 1 | 1 written confirmation | 1
813(b)(3) | Notify BOEM when equipment returned to service; provide written confirmation if reported orally | .5 | 2 notices | 1
815(c) | When required, analyze cable, P/L, or facility damage or failures to determine cause and as soon as available submit comprehensive written report | 2 | 1 report | 2
816 | Submit plan of corrective action report on observed detrimental effects on cable, P/L, or facility within 30 days of discovery; take remedial action and submit report of remedial action within 30 days after completion | 2 | 1 plan/report | 2
822(a)(2)(iii), (b) | Maintain records of design, construction, operation, maintenance, repairs, and investigation on or related to lease or ROW/RUE area; make available to BOEM for inspection | 1 | 4 records retention | 4
823 | Request reimbursement within 90 days for food, quarters, and transportation provided to BOEM reps during inspection | 2 | 1 request | 2
824(a) ² | Develop annual self-inspection plan covering all facilities; retain with records, and make available to BOEM upon request | 24 | 2 plans | 48
824(b) | Conduct annual self-inspection and submit report by November 1 | 36 | 2 reports | 72
825 | Based on API RP 2A-WSD, perform assessment of structures, initiate mitigation actions for structures that do not pass assessment process, retain information, and make available to BOEM upon request | 60 | 2 assessments/actions | 120
830(a), (c); 831 thru 833 | Immediately report incidents to BOEM via oral communications, submit written follow-up report within 15 business days after the incident, and submit any required additional information | Oral .5 | 2 incidents | 1
|  | Written 4 | 1 incident | 4
830(d) | Report oil spills as required by BSEE 30 CFR 254 | Burden covered under BSEE 1014-0007 |  | 0
Subtotal |  |  | 32 responses | 385.5
Subpart I—Decommissioning
Four **** indicate the primary cites for the reports discussed in this subpart, and the burdens include any previous or subsequent references throughout part 585 to submitting and obtaining approval. This subpart contains references to other information submissions, approvals, requests, applications, plans, etc., the burdens for which are covered elsewhere in part 585.
**** 902; 905, 906; 907; 908(c); 909 | Submit for approval, in format specified, copies of the SAP, COP, or GAP decommissioning application and site clearance plan at least 2 years before decommissioning activities begin, 90 days after completion of activities, or 90 days after cancellation, relinquishment, or other termination of lease or grant. Include documentation of coordination efforts w/States/CZMA agencies, local or tribal governments, requests that certain facilities remain in place for other activities, be converted to an artificial reef, or be toppled in place. Submit additional information/evidence requested or modify and resubmit application | 20 | 1 application | 20
902(d); 908; | Notify BOEM at least 60 days before commencing decommissioning activities | 1 | 1 notice | 1
910 | Within 60 days after removing a facility, verify to BOEM that site is cleared | 1 | 1 verification | 1
912 | Within 60 days after removing a facility, cable, or pipeline, submit a written report | 8 | 1 report | 8
BOEM does not anticipate decommissioning activities for at least 5 years so the requirements have been given a minimal burden.
Subtotal |  |  | 4 responses | 30
Subpart J—RUEs for Energy- and Marine-Related Activities Using Existing OCS Facilities
1004, 1005, 1006 | Contact owner of existing facility and/or lessee of the area to reach preliminary agreement to use facility and obtain concurring signatures; submit request to BOEM for an alternative use RUE, including all required information/modifications | 1 | 1 request | 1
1007(a), (b), (c) | Submit indication of competitive interest in response to Federal Register notice | 4 | 1 submission | 4
1007(c) | Submit description of proposed activities and required information in response to Federal Register notice of competitive offering | 5 | 1 submission | 5
1007(f) | Lessee or owner of facility submits decision to accept or reject proposals deemed acceptable by BOEM | 1 | 1 submission | 1
1010(c) | Request renewal of Alternate Use RUE | 6 | 1 request | 6
1012; 1016(b) | Provide financial assurance as BOEM determines in approving RUE for an existing facility, including additional security if required | 1 | 1 submission | 1
1013 | Submit request for assignment of an alternative use RUE for an existing facility, including all required information | 1 | 1 request | 1
1015 | Request relinquishment of RUE for an existing facility | 1 | 1 request | 1
Subtotal |  |  | 8 responses | 20
Total Burden |  |  | 290 responses | 25,688
|  |  | $3,816,000 Non-Hour Cost Burdens
¹ In the future, BOEM may require electronic filing of certain submissions.
² Retention of these records is usual and customary business practice; the burden is primarily to make them available to BOEM and CVAs.

Estimated Reporting and Recordkeeping Non-Hour Cost Burden: We have identified three non-hour cost burdens for this collection totaling $3,816,000 (refer to the table above). These non-hour cost burdens consist of service fees for BOEM document/study preparation, costs for paying a contractor instead of BOEM, and costs for a site-specific study and report to evaluate the cause of harm to natural resources.

Public Disclosure Statement: The PRA (44 U.S.C. 3501, et seq.) provides that an agency may not conduct or sponsor a collection of information unless it displays a currently valid OMB control number. Until OMB approves a collection of information, you are not obligated to respond.

Comments: We invite comments concerning this information collection on:

• Whether or not the collection of information is necessary, including whether or not the information will have practical utility;

• The accuracy of our burden estimates;

• Ways to enhance the quality, utility, and clarity of the information to be collected; and

• Ways to minimize the burden on respondents.

If you have costs to generate, maintain, and disclose this information, you should comment and provide your total capital and startup costs or annual operation, maintenance, and purchase of service costs. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (a) Before October 1, 1995; (b) to comply with requirements not associated with the information collection; (c) for reasons other than to provide information or keep records for the Government; or (d) as part of customary and usual business or private practices.

We will summarize written responses to this notice and address them in our submission for OMB approval. As a result of your comments, we will make any necessary adjustments to the burden in our submission to OMB.

Public Availability of Comments: Before including your address, phone number, email address, or other personal identifying information in your comment, you should be aware that your entire comment—including your personal identifying information—may be made publicly available at any time. While you can ask us in your comment to withhold your personal identifying information from public review, we cannot guarantee that we will be able to do so.

Dated: December 10, 2015.
Deanna Meyer-Pietruszka,
Chief, Office of Policy, Regulations, and Analysis.

[FR Doc. 2015-31707 Filed 12-16-15; 8:45 am]

BILLING CODE 4310-MR-P